DEPARTMENT OF THE INTERIOR

Bureau of Ocean Energy Management

[Docket No. BOEM-2023-0046]

Gulf of America, Outer Continental Shelf, Record of Decision To Reaffirm Decisions for Gulf of Mexico Outer Continental Shelf Oil and Gas Lease Sales 259 and 261 and Gulf of America Regional OCS Oil and Gas Lease Sales and Post-Lease Activities: Final Programmatic Environmental Impact Statement

AGENCY: Bureau of Ocean Energy Management, Interior.

ACTION: Notice of availability; record of decision.

SUMMARY: The Bureau of Ocean Energy Management (BOEM) announces the availability of the record of decision (ROD) to reaffirm decisions for Gulf of Mexico (GOM) Outer Continental Shelf (OCS) Oil and Gas Lease Sales 259 and 261 (Lease Sales 259 and 261) and its intent to use the Gulf of America Regional OCS Oil and Gas Lease Sales and Post-Lease Activities: Final Programmatic Environmental Impact Statement (GOA Oil and Gas Programmatic EIS) for, among other things, a National Environmental Policy Act (NEPA) analysis that can be tiered to when conducting post-lease and site-specific reviews of plans, permits and other approvals. This ROD concludes the programmatic NEPA process for the GOA Oil and Gas Programmatic EIS.

ADDRESSES: The ROD and associated information are available on BOEM's website at https://www.boem.gov/oil-gas-energy/gulf-america-lease-sales-259-and-261-supplemental-environmental-impact-statement.

FOR FURTHER INFORMATION CONTACT: Helen Rucker, Supervisor, Environmental Assessment Section, Office of Environment, 1201 Elmwood Park Blvd. (MS GM 623E), New Orleans, LA 70123-2394, by telephone at 504-736-2421, or by email at BOEMGOANEPA@boem.gov.

SUPPLEMENTARY INFORMATION: BOEM is reaffirming the decisions for Lease Sales 259 and 261 as they were held and is also relying on the GOA Oil and Gas Programmatic EIS for that decision. Secretary of the Interior Doug Burgum issued Secretary's Order (S.O.) 3423 (February 7, 2025), which directed the renaming of the Gulf of Mexico (GOM) to the Gulf of America (GOA) in accordance with Executive Order (E.O.) 14172, “Restoring Names that Honor American Greatness”, (January 20, 2025). Throughout this ROD, BOEM uses the new GOA name where appropriate. However, legacy documents, such as previously published reports and environmental documents, remain unchanged as the GOM.

On March 6, 2023, in Healthy Gulf v. Burgum, several environmental nonprofit organizations (plaintiffs) filed a lawsuit in the U.S. District Court for the District of Columbia, against the Secretary of the Interior and BOEM challenging Lease Sale 259.

Additionally, on August 25, 2023, the same plaintiffs filed a complaint challenging Lease Sale 261. In those complaints, Plaintiffs allege that the ROD and SEIS violate the National Environmental Policy Act and the Administrative Procedure Act, and request that the court find that any bids that BOEM received during the lease sales are not acceptable, vacate the ROD and SEIS, and vacate or enjoin any leases executed pursuant to the ROD and any lease activities executed pursuant to the lease sales. On November 29, 2023, the court stayed the Lease Sale 261 pending resolution of Lease Sale 259 litigation.

On March 27, 2025, in the challenge to Lease Sale 259, the court found that BOEM's NEPA analysis for Lease Sale 259 had improperly evaluated greenhouse gas (GHG) emissions and impacts to the Rice's whale. Concerning BOEM's GHG analysis, the court found that BOEM had not adequately examined laws and policies postdating its modeling baseline. The court also found that BOEM failed to address a National Marine Fisheries Service determination that the Rice whale's habitat extends into the western and central Gulf of America. The court ordered briefing from the parties on remedy. The parties' final remedy briefs were filed on June 6, 2025. Plaintiffs' Remedy Brief modified their request and asked the court to vacate the SEIS and remand it to BOEM and partially vacate the leases issued pursuant to Lease Sale 259. Federal Defendants and Intervenors argued that the analysis can be remedied without vacatur of the SEIS, the lease sale, or the leases. The Court has not yet issued a remedy and there is no injunction restraining BOEM's management of the leases in question.

During the pendency of the above litigation, BOEM was in the process of preparing a programmatic environmental impact statement for potential future lease sales and ongoing and future post-lease activities in the GOA. On August 29, 2025, the notice of availability for the Gulf of America Regional OCS Oil and Gas Lease Sales and Post-Lease Activities: Final Programmatic Environmental Impact Statement (GOA Oil and Gas Programmatic EIS) was published in the Federal Register (90 FR 42243). In addition to the analysis of a proposed Federal action to hold an oil and gas lease sale offered on the U.S. OCS within BOEM's GOA Western, Central, and Eastern Planning Areas, the GOA Oil and Gas Programmatic EIS also addresses the court's findings regarding BOEM's previous assessment of GHG emissions and potential impacts to the Rice's whales. On August 27, 2025, counsel for Defendants notified the court handling the Lease Sale 259 litigation that BOEM had completed the GOA Oil and Gas Programmatic EIS, and that BOEM would begin acting on pending plans.

The GOA Oil and Gas Programmatic EIS also provides the context and setting of future proposed actions, including future discretionary oil and gas lease sales, site-specific OCS oil- and gas-related activities, the potential impact-producing factors associated with these activities, and the reasonably foreseeable impacts on GOA resources. BOEM plans to use the GOA Oil and Gas Programmatic EIS for, among other things, a NEPA analysis that can be tiered to when conducting post-lease and site-specific reviews of plans, permits and other approvals, regardless of when the leased area on which the activities are proposed may have been leased. The Programmatic EIS may also inform extraordinary circumstance reviews to ensure categorical exclusions are used appropriately.

After careful consideration, the Department of the Interior decided to reaffirm the decision for holding Lease Sales 259 and 261 according to the terms in the notices of sale published in 2023 and to reaffirm the leases issued as a result of those sales.

Authority: 42 U.S.C. 4321 et seq. (National Environmental Policy Act) and 43 CFR part 46.

Matthew N. Giacona,
Acting Director, Bureau of Ocean Energy Management.

[FR Doc. 2026-03727 Filed 2-24-26; 8:45 am]

BILLING CODE 4340-98-P